DEPARTMENT OF HEALTH AND HUMAN SERVICES

Substance Abuse and Mental Health Services Administration

Fiscal Year (FY) 2010 Funding Opportunity

AGENCY: Substance Abuse and Mental Health Services Administration, HHS.

ACTION: Notice of Intent to award a Single Source Supplement Grant to the National Center for Mental Health Promotion and Youth Violence Prevention at Educational Development Corporation (EDC) of Newton, Massachusetts.

SUMMARY: This notice is to inform the public that the Substance Abuse and Mental Health Services Administration (SAMHSA) intends to award approximately $250,000 for up to fifteen months to expand grant activities funded under the Technical Assistance Center for Mental Health Promotion and Youth Violence Prevention to implement a Back to School media campaign targeted at the Gulf Coast schools impacted by the Deepwater oil spill. This is not a formal request for applications. This award is contingent upon the availability of funding. Assistance will be provided only to the current grantee of the Technical Assistance Center for Mental Health Promotion and Youth Violence Prevention based on the receipt of a satisfactory application that is approved by an independent review group.

Funding Opportunity Title: SM-10-020.

Catalog of Federal Domestic Assistance (CFDA) Number: 93.243.

Authority: Sections 501(d)(5), 501(d)(18), 520A, 231, of the Public Health Service (PHS) Act [42 U.S.C. 290aa; 42 U.S.C. 290bb-32, 42 U.S.C. 238, respectively].

Justification: Only an application from the current grantee, National Center for Mental Health Promotion and Youth Violence Prevention at Educational Development Corporation (EDC), will be considered for funding under this announcement. Fifteen-months funding may become available to implement a Back to School Media Support for Gulf Coast States Impacted by the Deepwater Oil Spill grant. The current grantee will provide technical assistance and is in a unique position to address the needs of communities rapidly. This Center currently provides technical assistance and training to strengthen the capacity of active Safe Schools/Healthy Students grantees to sustain the use of evidence-based strategies for mental health promotion and school violence prevention. There is no other potential organization with the required access and expertise.

Eligibility for this program supplement is restricted to the current grantee, National Center for Mental Health Promotion and Youth Violence Prevention at Educational Development Corporation (EDC). Eligibility is limited because the magnitude of the Deepwater Horizon oil spill and its impact on the residents of the Gulf Coast region have led to an urgent need for disaster behavioral health communications services targeting school aged children, youth and their families. This supplement will serve to maximize efficiencies created under the current services infrastructure. It would be inefficient and duplicative to fund additional technical assistance services for a Back to School Media Support for Gulf Coast States Impacted by the Deepwater Oil Spill grant through a second organization.

Contact: Shelly Hara, Substance Abuse and Mental Health Services Administration, 1 Choke Cherry Road, Room 8-1095, Rockville, MD 20857; telephone: (240) 276-2321; E-mail: shelly.hara@samhsa.hhs.gov.

Dated: August 23, 2010.
Toian Vaughn,
SAMHSA Committee Management Officer.

[FR Doc. 2010-21339 Filed 8-26-10; 8:45 am]

BILLING CODE 4162-20-P